DEPARTMENT OF HEALTH AND HUMAN SERVICES

Administration for Children and Families; Office of Refugee Resettlement

Modification to the Standing Announcement Published in the Federal Register on December 9, 1997 (62 FR 64856)

AGENCY: Office of Refugee Resettlement (ORR) Administration for Children and Families, DHHS.

ACTION: Notice of cancellation.

SUMMARY: The Office of Refugee Resettlement Standing Announcement (62 FR 64856) issued December 9, 1997 is hereby modified to reflect the cancellation of three program areas: Category 3, Community Orientation, Category 4, Technical Assistance to Orientation Grantees, and Category 5, Mental Health.

Closing dates for Category 1, Preferred Communities, Category 2, Unanticipated Arrivals, and Category 6, Ethnic Community Organizations will remain unchanged, i.e. January 31 and June 30 every year.

These changes are effective with the date of this publication.

For further information, please contact Marta Brenden, Office of Refugee Resettlement, telephone 202-205-3589.

Dated: April 13, 2000.
Carmel Clay-Thompson,
Acting Director, Office of Refugee Resettlement.

[FR Doc. 00-9634 Filed 4-17-00; 8:45 am]

BILLING CODE 4184-01-M